FEDERAL COMMUNICATIONS COMMISSION

47 CFR Parts 4 and 9

[PS Docket No. 15-80, PS Docket No. 13-75 and ET Docket 04-35; Report No. 3195; FR ID 145749]

Petition for Reconsideration of Action in Rulemaking Proceeding

AGENCY: Federal Communications Commission.

ACTION: Petition for Reconsideration.

SUMMARY: Petition for Reconsideration (Petition) has been filed in the Commission's proceeding by Angela Simpson on behalf of Competitive Carriers Association.

DATES: Oppositions to the Petition must be filed on or before June 26, 2023. Replies to oppositions must be filed on or before July 5, 2023.

ADDRESSES: Federal Communications Commission, 45 L Street NE, Washington, DC 20554.

FOR FURTHER INFORMATION CONTACT: For additional information on this proceeding, contact James Wiley, Cybersecurity and Communications Reliability Division, Public Safety and Homeland Security Bureau, (202) 418-1678, or by email to James.Wiley@fcc.gov, or Scott Cinnamon, Cybersecurity and Communications Reliability Division, Public Safety and Homeland Security Bureau, (202) 418-2319, or by email to Scott.Cinnamon@fcc.gov.

SUPPLEMENTARY INFORMATION: This is a summary of the Commission's document, Report No. 3195, released May 31, 2023. The full text of the Petition can be accessed online via the Commission's Electronic Comment Filing System at: https://apps.fcc.gov/ecfs/. The Commission will not send a Congressional Review Act (CRA) submission to Congress or the Government Accountability Office pursuant to the CRA, 5 U.S.C. 801(a)(1)(A), because no rules are being adopted by the Commission.

Subject: Amendments to Part 4 of the Commission's Rules Concerning Disruptions to Communications; Improving 911 Reliability; New Part 4 of Commission's Rules Concerning Disruptions to Communications, PS Docket Nos. 15-80, 13-75, ET Docket No. 04-35, Second Report and Order, FCC 22-88 (2022), Second Report and Order published at 88 FR 9756, March 17, 2023. This document is being published pursuant to 47 CFR 1.429(e). See also 47 CFR 1.4(b)(1) and 1.429(f), (g).

Number of Petitions Filed: 1.

Federal Communications Commission.
Marlene Dortch,
Secretary, Office of the Secretary.

[FR Doc. 2023-12365 Filed 6-8-23; 8:45 am]

BILLING CODE 6712-01-P